DEPARTMENT OF DEFENSE

Office of the Secretary

Mandatory Declassification Review Addresses

AGENCY: Department of Defense.

ACTION: Notice.

SUMMARY: Pursuant to the Information Security Oversight Office's Classified National Security Information Directive No. 1, this notice provides Department of Defense addresses to which Mandatory Declassification Review requests may be sent. This notice benefits the public in advising them where to send such requests for declassification review.

FOR FURTHER INFORMATION CONTACT: Mr. Robert Storer, (571) 372-0483.

SUPPLEMENTARY INFORMATION: The following chart identifies the offices to which mandatory declassification review requests should be addressed:

(1) OSD and the Office of the Chairman of the Joint Chiefs of Staff and the Joint Staff. Department of Defense, Washington Headquarters Services, Records and Declassification Division, Suite 02F09-02, 4800 Mark Center Drive, Alexandria, Va, 22350-3100.

Exception: DoD Inspector General. DoD Office of Inspector General, 400 Army Navy Drive, Arlington, VA 22202-4704.

(2) Department of the Army. U.S. Army Declassification Activity, Attention: AHRC-RDD, 8850 Richmond Highway, Suite 300, Alexandria, VA 22309.

(3) Department of the Navy.

(i) Department of the Navy, Chief of Naval Operations, CNO N09N2, 2000 Navy Pentagon, Washington, DC 20350-2000. (Collateral MDR).

(ii) Department of Navy, Chief of Naval Operations, CNO N2/N6, 2000, Navy Pentagon, Washington, DC 20350-2000. (Sensitive Compartmented Information MDR).

(4) Department of the Air Force. Department of the Air Force, HAF/IMIO (MDR), 1000 Air Force Pentagon, Washington, DC 20330-1000.

(5) United States Marine Corps. Commandant of the Marine Corps, HQMC Code PP&O, Security Division (PS), 3000 Marine Corps Pentagon, Room 4A324, Washington, DC 20350-3000.

(6) Defense Advanced Research Projects Agency. Defense Advanced Research Projects Agency, 3701 N. Fairfax Drive, Arlington, VA 22203-1714.

(7) Defense Contract Audit Agency. Director, Defense Contract Audit Agency, Attention: CPS, 8725 John J. Kingman Road, Suite 2135, Fort Belvoir, VA 22060-6219.

(8) Defense Information Systems Agency. Defense Information Systems Agency, Attention: Security Division, MPS 6, 5111 Leesburg Pike, Suite 100, Falls Church, VA 22041.

(9) Defense Intelligence Agency. Defense Intelligence Agency, Attention: DAN-1A (FOIA), Washington, DC 20340-5100.

(10) Defense Logistics Agency. Defense Logistics Agency, Attention: DLA/DSS-S, 8725 John J. Kingman Road, Suite 2533, Fort Belvoir, VA 22060-6221.

(11) Defense Security Service. Defense Security Service, Office of FOIA & Privacy, 1340 Braddock Place, Alexandria, VA 22314-1651.

(12) Defense Threat Reduction Agency. Defense Threat Reduction Agency, Attention: SCR, 8725 John J. Kingman Road, Fort Belvoir, VA 22060-6201.

(13) Missile Defense Agency. Missile Defense Agency, Attention: MDA/DS, 7100 Defense Pentagon, Washington, DC 20301-7100.

(14) National Geospatial-Intelligence Agency. National Geospatial-Intelligence Agency, Mail Stop D-10, 4600 Sangamore Road, Bethesda, MD 20816-5003.

(15) National Reconnaissance Office. National Reconnaissance Office, NRO-MSO-ASG-IMSC-IART', 14675 Lee Road, Chantilly, VA 20151-1715.

(16) National Security Agency/Central Security Service. National Security Agency, Declassification Office, DJP5, 9800 Savage Road, Suite 6884, Fort George G. Meade, MD 20755-6884.

(17) North American Aerospace Defense Command. HQ NORAD/CSO, 250 Vandenberg St. Ste B016, Peterson AFB, CO 80914.

(18) U.S. Africa Command. US Africa Command, Unit 29951, ATTN: COS-FOIA, APO AE 09751.

(19) U.S. Central Command. U.S. Central Command, Attention: CCJ6-RDD, 7115 South Boundary Blvd., MacDill AFB, FL 33621-5101.

(20) U.S. European Command. U.S. European Command, Attention: ECJ1-AX, Unit 30400, APO AE 09131.

(21) U.S. Joint Forces Command. U.S. Joint Forces Command, Code J02SM, 1562 Mitscher Ave., Suite 200, Norfolk, VA 23511-2488.

(22) U.S. Northern Command. U.S. Northern Command, HQ USNORTHCOM/CSO, 250 Vandenberg Street, Suite B016, Peterson AFB, CO 80914-3804.

(23) U.S. Pacific Command. U.S. Pacific Command, Attention: J151 FOIA, Box 64017, Camp Smith, HI 96861-4017.

(24) U.S. Southern Command. U.S. Southern Command, Attention: SCJ2-SM-CFO (FOIA)”. 3511 NW. 91st Avenue, Miami, FL 33172-1217.

(25) U.S. Special Operations Command. U.S. Special Operations Command, Attention: SOCS-SJS-SI (FOIA), 7701 Tampa Point Blvd., MacDill AFB, FL 33621-5323.

(26) U.S. Strategic Command. U.S. Strategic Command, Attention: CS50, 901 SAC Blvd., STE 1C17, Offutt AFB, NE 68113-6000.

(27) U.S. Transportation Command. US Transportation Command, Chief, Command Information Management, ATTN: TCCSIM, 508 Scott Drive, Scott AFB IL, 62225-5357.

Dated: December 21, 2011.
Aaron Siegel,
Alternate OSD Federal Register Liaison Officer, Department of Defense.

[FR Doc. 2011-33063 Filed 12-23-11; 8:45 am]

BILLING CODE 5001-06-P